DEPARTMENT OF DEFENSE

Office of the Secretary

[Transmittal Nos. 12-67]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 12-67 with attached transmittal, policy justification, and Sensitivity of Technology.

Dated: August 13, 2013.
Aaron Siegel,
Alternate OSD Federal Register Liaison Officer, Department of Defense.

BILLING CODE 5001-06-P

BILLING CODE 5001-06-C

Transmittal No. 12-67

Notice of Proposed Issuance of Letter of Offer Pursuant to Section 36(b)(1) of the Arms Export Control Act, as amended

(i) Prospective Purchaser: Government of Iraq

(ii) Total Estimated Value:

Major Defense Equipment * | $ 1.133 billion
Other | $ 1.270 billion
Total | $ 2.403 billion

(iii) Description and Quantity or Quantities of Articles or Services under Consideration for Purchase: 40 AVENGER Fire Units, 681 STINGER Reprogrammable Micro-Processor (RMP) Block I 92H Missiles, 13 AN/MPQ-64F1 SENTINEL Radars, 7 AN/YSQ-184D Forward Area Air Defense Command, Control, and Intelligence (FAAD C2I) Systems, 75 AN/VRC-92E SINCGARS Radios, 3 HAWK XXI Batteries (6 Fire Units) which include 6 Battery Fire Direction Centers, 6 High Powered Illuminator Radars, 216 MIM-23P HAWK Tactical Missiles, 2 Mobile Battalion Operation Centers (BOC), 3 HAWK XXI BOC Air Defense Consoles (ADCs), 1DS/GS Shop 20, 1 DS/GS Shop 21, 1 Mini-Certified Round Assembly Facility (MCRAF), Air Command and Control (C2) systems and surveillance radars for the Integrated Air Defense Systems that includes TPS-77 Long-Range Radars (LRR) and Omnyx-I0 Air Command and Control System, and 10 Medium Range Radars. Also included: Ground Air Transmit Receive Ultra High Frequency/Very High Frequency radio capability, facilities and construction for one (1) underground Air Defense Operations Center and two (2) Air Defense Sector Operations Centers, spare and repair parts, repair and return, software support, systems integration, long haul communication technical integration, communications equipment, support equipment and sustainment, tools and test equipment, publications and technical documentation, personnel training and training equipment, U.S. Government and contractor representative engineering, technical, and logistics support services, and other related elements of logistics support.

(iv) Military Department: Army (UFU, UEO); Air Force (QBF)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: 5 August 2013

* as defined in Section 47(6) of the Arms Export Control Act.

POLICY JUSTIFICATION

Iraq—Integrated Air Defense System

The Government of Iraq has requested a possible sale of 40 AVENGER Fire Units, 681 STINGER Reprogrammable Micro-Processor (RMP) Block I 92H Missiles, 13 AN/MPQ-64F1 SENTINEL Radars, 7 AN/YSQ-184D Forward Area Air Defense Command, Control, and Intelligence (FAAD C2I) Systems, 75 AN/VRC-92E SINCGARS Radios, 3 HAWK XXI Batteries (6 Fire Units) which include 6 Battery Fire Direction Centers, 6 High Powered Illuminator Radars, 216 MIM-23P HAWK Tactical Missiles, 2 Mobile Battalion Operation Centers (BOC), 3 HAWK XXI BOC Air Defense Consoles (ADCs), 1DS/GS Shop 20, 1 DS/GS Shop 21, 1 Mini-Certified Round Assembly Facility (MCRAF), Air Command and Control (C2) systems and surveillance radars for the Integrated Air Defense Systems that includes TPS-77 Long-Range Radars (LRR) and Omnyx-I0 Air Command and Control System, and 10 Medium Range Radars. Also included: Ground Air Transmit Receive Ultra High Frequency/Very High Frequency radio capability, facilities and construction for one (1) underground Air Defense Operations Center and two (2) Air Defense Sector Operations Centers, spare and repair parts, repair and return, software support, systems integration, long haul communication technical integration, communications equipment, support equipment and sustainment, tools and test equipment, publications and technical documentation, personnel training and training equipment, U.S. Government and contractor representative engineering, technical, and logistics support services, and other related elements of logistics support. The estimated cost is $2.403 billion.

This proposed sale will contribute to the foreign policy and national security of the United States by helping to improve the security of a friendly country. This proposed sale directly supports the Iraqi government and serves the interests of the Iraqi people and the United States.

This proposed sale of Ground Based Air Defense Systems will help the Government of Iraq to modernize its armed forces. The proposed air defense system will provide the Iraqi Air Defense Command situational awareness of the country's airspace and a baseline tactical radar and threat intercept capability. This capability will provide Iraq with the ability to contribute to regional air defenses and reduce its vulnerability to air attacks and also enhance interoperability between the Government of Iraq, the U.S., and other allies.

The proposed sale of this equipment and support will not alter the basic military balance in the region.

The principal contractors involved in this program are: Lockheed Martin Corporation, San Diego, California; Thales Raytheon Systems, Fullerton, California; Boeing Company and American General, Letterkenny Army Depot, Chambersburg, Pennsylvania; Raytheon Integrated Defense Systems, Andover, Massachusetts; Northrop Grumman, Rolling Meadows, Illinois; and Kratos Defense and Aerospace, Huntsville, Alabama. There are no known offset agreements proposed in connection with this potential sale.

Implementation of this proposed sale will require 20-25 U.S. Government or contractor representatives to travel to Iraq for a period of 8-10 weeks for equipment checkout and training.

There will be no adverse impact on U.S. defense readiness as a result of this proposed sale.

[FR Doc. 2013-19986 Filed 8-15-13; 8:45 am]

BILLING CODE 5001-06-P